DEPARTMENT OF COMMERCE

International Trade Administration

[A-533-810]

Stainless Steel Bar from India: Extension of Time Limit for the Final Results of the Antidumping Duty Administrative Review

AGENCY: Import Administration, International Trade Administration, Department of Commerce.

SUMMARY: The Department of Commerce is extending the time limit for the final results of the administrative review of the antidumping duty order on stainless steel bar from India. The period of review is February 1, 2003, through January 31, 2004. This extension is made pursuant to section 751(a)(3)(A) of the Tariff Act of 1930, as amended by the Uruguay Round Agreements Act.

EFFECTIVE DATE: August 24, 2005.

FOR FURTHER INFORMATION CONTACT: Scott Holland, AD/CVD Operations, Office 1, Import Administration, International Trade Administration, U.S. Department of Commerce, 14th Street and Constitution Avenue, NW, Washington DC 20230; telephone (202) 482-1279.

SUPPLEMENTARY INFORMATION:

Background

On March 7, 2005, the Department of Commerce (“the Department”) published the preliminary results of the administrative review of the antidumping duty order on stainless steel bar from India covering the period February 1, 2003, through January 31, 2004. See Notice of Preliminary Results and Partial Rescission of Antidumping Duty Administrative Review: Stainless Steel Bar from India, 70 FR 10977 (March 7, 2005). On June 1, 2005, the Department published in the Federal Register an extension of the time limit for the final results in the antidumping duty review to no later than August 25, 2005, in accordance with the Tariff Act of 1930, as amended (“the Act”). See Stainless Steel Bar from India: Extension of Time Limit for the Final Results of the Antidumping Duty Administrative Review, 70 FR 31425 (June 1, 2005).

Extension of Time Limits for Final Results

Section 751(a)(3)(A) of the Act requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

On July 29, 2005, Carpenter Technology Corp., Crucible Specialty Metals Division of Crucible Materials Corp., Electralloy Corp., Slater Steels Corp., Empire Specialty Steel and the United Steelworkers of America (AFL-CIO/CLC) (collectively, the “petitioners”), timely filed a case brief for the Department's final results of the administrative review. In order to allow sufficient time for the Department to analyze the complex arguments contained in the petitioners' case brief, we find that it is not practicable to complete this review within the originally anticipated time limit (i.e., by August 25, 2005). Accordingly, the Department is extending the time limit for completion of the final results to no later than September 6, 2005, in accordance with section 751(a)(3)(A) of the Act.

This notice is issued and published in accordance with section 751(a)(3)(A) of the Act.

Dated: August 18, 2005.
Barbara E. Tillman,
Acting Deputy Assistant Secretary for Import Administration.

[FR Doc. E5-4631 Filed 8-23-05; 8:45 am]

BILLING CODE 3510-DS-S